DEPARTMENT OF HEALTH AND HUMAN SERVICES

Centers for Disease Control and Prevention

Disease, Disability, and Injury Prevention and Control Special Emphasis Panel (SEP): Initial Review

The meeting announced below concerns Pilot Interventions to Promote the Health of People with Blood Disorders, FOA DD14-003, initial review.

SUMMARY: This document corrects a notice that was published in the Federal Register on March 19, 2014 (79 FR 15349-15350). The times and dates should read as follows:

Time and Date: 9:00 a.m.-3:30 p.m., April 8, 2014 (Closed)

FOR FURTHER INFORMATION CONTACT: M. Chris Langub, Ph.D., Scientific Review Officer, CDC, 4770 Buford Highway NE., Mailstop F46, Atlanta, Georgia 30341, Telephone: (770) 488-3585, EEO6@cdc.gov.

The Director, Management Analysis and Services Office, has been delegated the authority to sign Federal Register notices pertaining to announcements of meetings and other committee management activities, for both the Centers for Disease Control and Prevention and the Agency for Toxic Substances and Disease Registry.

Gary J. Johnson,
Acting Director, Management Analysis and Services Office, Centers for Disease Control and Prevention.

[FR Doc. 2014-11357 Filed 5-15-14; 8:45 am]

BILLING CODE 4163-18-P